DEPARTMENT OF ENERGY

Federal Energy Regulatory Commission

[Project No. 11169-029]

Mayo Hydropower, LLC, Avalon Hydropower, LLC; Notice of Application for Transfer of License, and Soliciting Comments and Motions To Intervene

On November 20, 2012, Mayo Hydropower, LLC (transferor) and Avalon Hydropower, LLC (transferee) filed an application for transfer of license for the Avalon Dam Project, No. 11169, located on the Mayo River in Rockingham County, North Carolina.

Mayo Hydropower, LLC and Avalon Hydropower, LLC are both owned by Mr. Dean Edwards and his wife Ms. Wynona Edwards.

Applicants seek Commission approval to transfer the license for the Avalon Dam Project from transferor to transferee.

Applicants' Contact: Mr. Dean Edwards, Manager, Avalon Hydropower, LLC, 5400 Downing Street, Dover, Florida 33527, telephone (813) 659-3014.

FERC Contact: Patricia W. Gillis (202) 502-8735.

Deadline for filing comments and motions to intervene: 15 days from the issuance date of this notice, by the Commission. Comments and motions to intervene may be filed electronically via the Internet. See 18 CFR 385.2001(a)(1) and the instructions on the Commission's Web site under http://www.ferc.gov/docs-filing/efiling.asp. Commenters can submit brief comments up to 6,000 characters, without prior registration, using the eComment system at http://www.ferc.gov/docs-filing/ecomment.asp. You must include your name and contact information at the end of your comments. If unable to be filed electronically, documents may be paper-filed. To paper-file, an original plus seven copies should be mailed to: Kimberly D. Bose, Secretary, Federal Energy Regulatory Commission, 888 First Street NE., Washington, DC 20426. More information about this project can be viewed or printed on the eLibrary link of Commission's Web site at http://www.ferc.gov/docs-filing/elibrary.asp. Enter the docket number (P-11169) in the docket number field to access the document. For assistance, call toll-free 1-866-208-3372.

Dated: February 27, 2013.
Kimberly D. Bose,
Secretary.

[FR Doc. 2013-05118 Filed 3-5-13; 8:45 am]

BILLING CODE 6717-01-P